ENVIRONMENTAL PROTECTION AGENCY

[FRL-7415-1]

Announcement of a Meeting of the Microbial and Disinfection Byproducts Advisory Committee

AGENCY: Environmental Protection Agency.

ACTION: Notice; announcement of meeting.

SUMMARY: Under section 10(a)(2) of Public Law 920423, “The Federal Advisory Committee Act,” notice is hereby given of a meeting of the Microbial and Disinfection Byproducts Advisory Committee (Committee) established under the Safe Drinking Water Act, as amended (42 U.S.C. 300f et seq.). The purpose of this meeting is to provide an update to the Committee on the status of the Long Term 2 Enhanced Surface Water Treatment Rule and the Stage 2 Disinfection Byproducts Rule. The meeting will be held as a teleconference and a limited number of lines will be made available to the public. The call-in number and access code for this meeting will be provided to participants upon registration. See FOR FURTHER INFORMATION CONTACT in this notice for information on how to register.

DATES: The meeting will be held from 2:30 p.m. to 4:00 p.m. Eastern Time on December 13, 2002.

FOR FURTHER INFORMATION CONTACT: For registration and general information about this meeting, please contact Ms. Crystal Rodgers, Designated Federal Officer, Microbial and Disinfection Byproducts Advisory Committee, Office of Ground Water and Drinking Water (MC 4607M), U.S. Environmental Protection Agency, 1200 Pennsylvania Ave. NW, Washington, DC 20460. The telephone number is 202-564-5275; e-mail is rodgers.crystal@epa.gov. Any person needing special accommodations for this meeting should contact Ms. Rodgers (contact information previously noted), at least five business days before the meeting so that appropriate arrangements can be made.

SUPPLEMENTARY INFORMATION: The U.S. Environmental Protection Agency (EPA) is developing the Long Term 2 Enhanced Surface Water Treatment Rule (LT2ESWTR) and the Stage 2 Disinfection Byproducts Rule (DBPR) to provide greater protection against risks associated with microbial pathogens and disinfection byproducts in drinking water. The Committee provided consensus recommendations for the LT2ESWTR and Stage 2 DBPR in September 2000, as stated in an Agreement in Principle (65 FR 83015, December 29, 2000). In this meeting, EPA will inform the Committee regarding the status of development of the LT2ESWTR and Stage 2 DBPR.

Dated: November 25, 2002.
Cynthia C. Dougherty,
Director, Office of Ground Water and Drinking Water.

[FR Doc. 02-30461 Filed 11-29-02; 8:45 am]

BILLING CODE 6560-50-P